DEPARTMENT OF JUSTICE

Antitrust Division

Noticed Pursuant to the National Cooperative Research and Production Act of 1993—DVD Copy Control Association (“DVD CCA”)

Notice is hereby given that, on April 4, 2003, pursuant to section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Foryou General Electronics Co., Ltd., Guangdong, People's Republic of China; Futic Electronics Ltd., Hong Kong, Hong Kong-China; GZ Digital Media, A.S., Lodenice, Czech Republic; Jiangsu Syber Electronic Co., Ltd., Jiangsu, People's Republic of China; Matrix Technology S.p.A., Peschiera Borromeo, Italy; Mirai Audio & Video Co., Ltd., Seoul, Republic of Korea; Shenzhen Paragon Industries (China) Incorporation, Guangdong, People's Republic of China; Stebbing Recording Centre Ltd., Auckland, New Zealand; Taijin Media Co., Ltd., Seoul, Republic of Korea; Tanashin Denki Co., Ltd., Tokyo, Japan; and UL Tran Technology & Service Co., Taipei Hsien, Taiwan have been added as parties to this venture.

Also, Jaton Computer Co., Ltd., Bangkok, Thailand has been dropped as a party to this venture. In addition, Nippon Columbia Co., Ltd. has changed its name to Columbia Music Entertainment, Tokyo, Japan.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to section 6(b) of the Act on August 3, 2001 (66 FR 40727).

The last notification was filed with the Department on January 6, 2003. A notice was published in the Federal Register pursuant to section 6(b) of the Act on February 11, 2003 (68 FR 6946).

Constance K. Robinson,
Director of Operations, Antitrust Division.

[FR Doc. 03-11954 Filed 5-13-03; 8:45 am]

BILLING CODE 4410-11-M